ENVIRONMENTAL PROTECTION AGENCY

40 CFR Part 52

[CO-001-0041a, CO-001-0042a, UT-001-0032a; FRL-6889-2]

Approval and Promulgation of Air Quality Implementation Plans; Colorado and Utah; 1996 Periodic Carbon Monoxide Emission Inventories

AGENCY: Environmental Protection Agency (EPA).

ACTION: Direct final rule.

SUMMARY: On May 10, 2000, the Governor of Colorado submitted a revision to the State Implementation Plan (SIP) that addressed the Clean Air Act (CAA) section 187(a)(5) requirement for 1996 Periodic Emission Inventories (PEI), for Carbon Monoxide (CO) nonattainment areas, for Denver, Colorado and Fort Collins, Colorado. On June 14, 1999, the Governor of Utah submitted a SIP revision for the 1996 CO PEI requirement for Utah County, Utah. In this action, the EPA is approving the 1996 CO PEIs for Denver, Colorado, Fort Collins, Colorado, and Utah County, Utah.

DATES: This direct final rule is effective on December 26, 2000 without further notice, unless EPA receives adverse comments by November 24, 2000. If adverse comments are received, EPA will publish a timely withdrawal of the direct final rule in the Federal Register and inform the public that the rule will not take effect.

ADDRESSES: Written comments may be mailed to Richard R. Long, Director, Air and Radiation Program, Mailcode 8P-AR, Environmental Protection Agency (EPA), Region VIII, 999 18th Street, Suite 300, Denver, Colorado, 80202.

Copies of the documents relevant to this action are available for public inspection during normal business hours at the Air and Radiation Program, Environmental Protection Agency, Region VIII, 999 18th Street, Suite 300, Denver, Colorado 80202.

Copies of the State documents relevant to this action are also available for public inspection at the Colorado Department of Public Health and Environment, Air Pollution Control Division, 4300 Cherry Creek Drive South, Denver, Colorado 80246-1530; and at the Utah Department of Environmental Quality, Division of Air Quality, 150 North 1950 West, Salt Lake City, Utah 84114-4820.

FOR FURTHER INFORMATION CONTACT: Megan Williams, EPA, Region VIII, (303) 312-6431.

SUPPLEMENTARY INFORMATION: Throughout this document wherever “we,” “us,” or “our” are used, we mean the Environmental Protection Agency.

Table of Contents

I. Background Information

A. What Is the Purpose of This Action?

B. What Is the State's Process To Submit These Materials to the EPA?

C. How Did EPA Evaluate the 1996 Periodic CO Emission Inventories?

II. Final Action

III. Administrative Requirements

I. Background Information

A. What Is the Purpose of This Action?

In this action, we are approving the 1996 CO PEIs for Denver, Colorado, Fort Collins, Colorado, and Utah County, Utah.

On November 15, 1990, the Clean Air Act Amendments of 1990 were enacted (Public Law 101-549, 104 Stat. 2399, codified at 42 U.S.C. 7401-7671q). Under section 187(a)(5) of the CAA, States have the responsibility to inventory emissions contributing to NAAQS nonattainment, to track these emissions over time, and to ensure that control strategies are being implemented that reduce emissions and move areas toward attainment. The CAA required States with moderate or serious CO nonattainment areas to initially submit a base year CO inventory that represented actual emissions during the peak CO season by November 15, 1992. This base year inventory was for calendar year 1990. Moderate and serious CO nonattainment areas were also required to submit a revised emissions inventory periodically. The 1990 base year inventory was to serve as the primary inventory from which the periodic inventories were to be derived. As per CAA section 187(a)(5), the submittal of the first periodic emissions inventory, as a revision to the SIP, was required no later than September 30, 1995, and every three years thereafter until the area is redesignated to attainment. EPA approved the 1993 periodic CO emission inventories for Denver and Fort Collins on July 15, 1998 (see 63 FR 38087) and for Utah County on April 14, 1998 (see 63 FR 1812). As these three areas have not been redesignated to attainment, the CAA section 187(a)(5) requirement continues to apply to Denver, Fort Collins, and Utah County. Further information on these inventories and their purpose can be found in the document “Emission Inventory Requirements for Carbon Monoxide State Implementation Plans,” USEPA, Office of Air Quality Planning and Standards, EPA-450/4-91-011, March 1991, the September 30, 1994, guidance memorandum entitled “1993 Periodic Emission Inventory Guidance,” signed by J. David Mobley, Chief of the Emission Inventory Branch (hereafter, the Mobley Memorandum), the June 30, 1997, guidance memorandum distributing the document “Preparation of the 1996 Emission Inventory,” from David Misenheimer, Acting Group Leader, Emission Factor and Inventory Group, and the document “Reporting Guidance for 1996 Periodic Emissions Inventories and National Emissions Trends (NET) Inventories,” EPA-454/R-97-005, June 1997.

The periodic inventories were to be prepared in similar detail as was done with the 1990 base year inventories and were to address actual CO emissions for the area during the peak CO season. The peak CO season should reflect the months when peak CO concentrations occur. As winter is the peak CO season for Denver, Fort Collins, and Utah County, the 1996 periodic inventories included the period November through January. The periodic inventories are to address emissions from stationary point, area, on-road mobile, and non-road mobile sources.

B. What Is the State's Process To Submit These Materials to the EPA?

Section 110(k) of the CAA addresses our actions on submissions of revisions to a SIP. The CAA also requires States to observe certain procedural requirements in developing SIP revisions for submittal to us. Section 110(a)(2) of the CAA requires that each SIP revision be adopted after reasonable notice and public hearing (including emission inventories) ¹. This must occur before the State submits the revision to us.

¹ Memorandum from John Calcagni, Air Quality Management Division, and William G. Laxton, Director, Technical Support Division, to Regional Air Division Directors, Regions I-X, “Public Hearing Requirements for 1990 Base-Year Emission Inventories for Ozone and Carbon Monoxide Nonattainment Areas,” September 29, 1992.

The State of Colorado held a public hearing for the Denver 1996 PEI on April 15, 1999, directly after which the inventory was adopted by the Air Quality Control Commission (AQCC). The State of Colorado held a public hearing for the Fort Collins 1996 PEI on April 15, 1999 at which a Motion and Order to Continue the hearing on October 21, 1999 was granted. Directly after the October 21, 1999 hearing, the inventory was adopted by the Air Quality Control Commission (AQCC). Both inventories were formally submitted by the Governor on May 10, 2000. EPA determined the submittal was complete on June 16, 2000.

The State of Utah held a public hearing for the Utah County 1996 PEI on August 11, 1998, directly after which the inventory was adopted by the Air Quality Board. The Utah County inventory was formally submitted by the Governor on June 14, 1999. The Governor's June 14, 1999, submittal became complete on December 14, 1999, by operation of law under section 110(k)(1)(B) of the CAA.

C. How Did EPA Evaluate the 1996 Periodic CO Emission Inventories?

Our review of the 1996 PEIs for Denver, Fort Collins, and Utah County was based on the September 30, 1994, Mobley memorandum which allowed for two options for the approach to developing the PEI. If the PEI was to be used for a regulatory purpose (i.e., milestone compliance demonstration, rate of progress, maintenance plan tracking, etc.) a rigorous, comprehensive PEI was to be developed similar in detail and documentation to that which was done for the 1990 base year inventory. If, however, EPA and the State determined that the subsequent PEI would not be used to support a regulatory purpose other than to fulfill the CAA section 187(a)(5) requirement, a less rigorous approach could be appropriate. Both Colorado and Utah chose the latter option for the three PEIs being approved in this action.

EPA has reviewed the 1996 PEIs for Denver, Fort Collins, and Utah County. Summary tables, calculations for all identified sources in each source category, and adequate documentation were provided by the State of Colorado and the State of Utah ² for each of the three PEIs. EPA has determined that the Denver, Fort Collins, and Utah County 1996 PEIs satisfy the requirements of section 187(a)(5) of the CAA. One issue, however, arose with our review of the Fort Collins 1996 PEI. The Fort Collins PEI shows an increase of 64% in on-road mobile source emissions from 1990 to 1996. While Vehicle Miles Traveled (VMT) increased from 1990 to 1996, this increase is typically outweighed by emission reductions from changes in the fleet composition over the years (i.e., newer, lower emitting vehicles comprising a higher percentage of the total fleet; otherwise known as “fleet turnover”). The reason for this anomaly became clear after evaluating the methodology used by the North Front Range Transportation & Air Quality Planning Council (NFRT&AQPC), (the Metropolitan Planning Organization (MPO) for the Fort Collins area), to generate the VMT and transportation data sets for use by the State in calculating mobile source emissions. Since the development of the 1990 base year CO inventory for the Fort Collins nonattainment area, the NFRT&AQPC had expanded the size of its transportation modeling domain to encompass additional growth in the vicinity of Fort Collins (Fort Collins Urban Growth Area). In addition, the NFRT&AQPC used a less-sophisticated transportation model, MinUTP, to generate the VMT and used MinUTP in a very conservative mode (i.e., slow speeds and increased congestion) which, when run in EPA's Mobile5b model, produced significant estimated CO emissions. The above issues are currently being resolved by the State and NFRT&AQPC with the MPO acquiring and using a more sophisticated transportation model, TRANSCAD. The MPO is currently working with the State to prepare the forthcoming Fort Collins CO redesignation request and maintenance plan. Through the development of this redesignation request, the State and MPO will reach agreement on the most appropriate area to use for future transportation planning for the Fort Collins area and may request an adjustment of the original nonattainment boundaries as necessary to agree with the modeling domain. In the interim, both the State and MPO agreed that it was not the best use of resources to try to force fit the MPO's VMT data to the current Fort Collins nonattainment boundary and, instead, requested that EPA approve the submitted 1996 Fort Collins PEI as a non-regulatory inventory. As this 1996 PEI serves a planning, non-regulatory purpose, EPA is accepting the inventory as meeting the provisions of section 187(a)(5) of the CAA and looks to a fully updated, comprehensive, regulatory inventory to be submitted with the future Fort Collins redesignation request and maintenance plan.

² Summary tables included in Utah County's point source section of the PEI, entitled “Geneva Steel Total Emission Inventory Part 1— and “Geneva Steel Total Emission Inventory Part 2—Other Emissions”, present emissions for other pollutants (i.e., PM10, SO2, NOX and VOCs) in addition to CO. EPA is only acting on the CO emission information presented in these tables.

The 1996 CO emissions from point sources, area sources, on-road mobile sources, and non-road mobile sources for Denver, Fort Collins, and Utah County are summarized in the following table:

Carbon Monoxide Seasonal Emissions
[In tons per day]
Nonattainment area | Point source emissions | Area source emissions | On-road mobile emissions | Non-road mobile emissions | Total emissions
Denver | * 14.66 | 90.66 | 973.35 | 262.74 | 1,341.41
Fort Collins | * 0.27 | 13.26 | 82.13 | 23.40 | 119.06
Utah County | ** 63.01 | 28.93 | 188.04 | 4.74 | 284.72
* Point sources with CO emissions equal or greater than 1 ton per year.
** Major CO point sources (i.e., CO emissions equal to or greater than 100 tons per year).

All supporting calculations and documentation for these 1996 carbon monoxide periodic inventories are contained in the States' Technical Support Documents (TSDs) for this action.

II. Final Action

EPA is approving the carbon monoxide 1996 periodic emission inventories for Denver, Fort Collins, and Utah County as fulfilling the requirements of section 187(a)(5) of the CAA. The Denver and Fort Collins inventories were submitted by the Governor of Colorado with a letter dated May 19, 2000. The Utah County inventory was submitted by the Governor of Utah with a letter dated June 14, 1999.

EPA is publishing this rule without prior proposal because the Agency views this as a noncontroversial amendment and anticipates no adverse comments. However, in the “Proposed Rules” section of today's Federal Register publication, EPA is publishing a separate document that will serve as the proposal to approve the SIP revision if adverse comments be filed. This rule will be effective December 26, 2000 without further notice unless the Agency receives adverse comments by November 24, 2000. If the EPA receives adverse comments, EPA will publish a timely withdrawal in the Federal Register informing the public that the rule will not take effect. EPA will address all public comments in a subsequent final rule based on the proposed rule. The EPA will not institute a second comment period on this action. Any parties interested in commenting must do so at this time. Please note that if EPA receives adverse comment on an amendment, paragraph, or section of this rule and if that provision may be severed from the remainder of the rule, EPA may adopt as final those provisions of the rule that are not the subject of an adverse comment.

III. Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective December 26, 2000 unless EPA receives adverse written comments by November 24, 2000.

Under section 307(b)(1) of the Clean Air Act, petitions for judicial review of this action must be filed in the United States Court of Appeals for the appropriate circuit by December 26, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Reporting and recordkeeping requirements.

Dated: October 12, 2000.
Jack W. McGraw,
Acting Regional Administrator, Region VIII.

Part 52, chapter I, title 40 of the Code of Federal Regulations is amended as follows:

PART 52—[AMENDED]

1. The authority citation for part 52 continues to read as follows:

Authority: 42 U.S.C. 7401 et seq.

Subpart G—Colorado

2. Section 52.348 is amended by adding paragraph (d) to read as follows:

§ 52.348 Emission inventories.

* * * * *

(d) On May 10, 2000, the Governor of Colorado submitted the 1996 Carbon Monoxide Periodic Emission Inventories for Denver and Fort Collins, as a revision to the Colorado State Implementation Plan. The inventories address carbon monoxide emissions from stationary point, area, non-road mobile, and on-road mobile sources.

Subpart TT—Utah

3. Section 52.2350 is amended by adding paragraph (c) to read as follows:

§ 52.2350 Emission inventories.

* * * * *

(c) On June 14, 1999, the Governor of Utah submitted the 1996 Carbon Monoxide Periodic Emission Inventory for Utah County as a revision to the Utah State Implementation Plan. The inventory addresses carbon monoxide emissions from stationary point, area, non-road mobile, and on-road mobile sources.

[FR Doc. 00-27031 Filed 10-23-00; 8:45 am]

BILLING CODE 6560-50-P